DEPARTMENT OF JUSTICE

Notice of Lodging of Consent Decree Pursuant to The Comprehensive Environmental Response, Compensation and Liability Act of 1980 (“CERCLA”)

Notice is hereby given that a proposed Consent Decree (“Decree”) in United States v. ASARCO Incorporated, Blue Tee Corp., and Gold Fields Mining Corporation, Civil Action No. 4-00-00975-GAF, was lodged September 26, 2000, with the United States District Court for the Western District of Missouri.

The Complaint filed in the above-referenced matter alleges that ASARCO Incorporated, Blue Tee Corp., and Gold Fields Mining Corporation (“Defendants”) are liable under Section 107(a) of the Comprehensive Environmental Response, Compensation and Liability Act of 1980, as amended, (“CERCLA”), 42 U.S.C. 9607(a), for costs incurred and to be incurred by the Environmental Protection Agency as a result of the release or threatened release of hazardous substances at or in connection with Operable Unit 4 (“OU-4”) of the Jasper County Superfund Site (“Site”) in Jasper County, Missouri. The Complaint, which was filed simultaneously on September 26, 2000, with the Decree, sought response costs incurred and to be incurred by the United States in connection with OU-4.

Under the proposed Decree, the Defendants shall pay $1,816,710 in reimbursement of response costs. In exchange, the United States is granting Defendants a covenant not to sue or take administrative action against Defendants pursuant to section 107(a) of CERCLA, 42 U.S.C. 9607(a) for recovery of response costs. This covenant not to sue extends only to Defendants and does not extend to any other persons. This covenant not to sue is also conditioned upon the satisfactory performance by Defendants of their obligations under the Decree.

The Department of Justice will receive, for a period of thirty (30) days from the date of this publication, comments relating to the proposed Decree. Comments should be addressed to the Assistant Attorney General for the Environment and Natural Resources Division, Department of Justice, P.O. Box 7611, Washington, DC 20044-7611, and should refer to United States v. ASARCO Incorporated, Blue Tee Corp., and Gold Fields Mining Corporation, DOJ Ref. #90-11-2-06280.

The proposed Decree may be examined at the office of the United States Environmental Protection Agency, Region VII, 901 North 5th Street, Kansas City, Kansas 66101. A copy of the proposed Decree may also be obtained by mail from the Consent Decree Library, P.O. Box 7611, Washington, DC 20044. In requesting a copy of the Consent Decree, please refer to the referenced case number and enclose a check in the amount of $23.50, payable to the Consent Decree Library.

Bruce Gelber,
Chief, Environmental Enforcement Section, Environment and Natural Resources Division.

[FR Doc. 00-27169 Filed 10-20-00; 8:45 am]

BILLING CODE 4410-15-M